NATIONAL CREDIT UNION ADMINISTRATION

Agency Information Collection Activities: Submission to OMB for Review; Comment Request

AGENCY: National Credit Union Administration (NCUA).

ACTION: Request for comment.

SUMMARY: The NCUA is submitting the following new information collection to the Office of Management and Budget (OMB) for review and clearance under the Paperwork Reduction Act of 1995 (Pub. L. 104-13, 44 U.S.C.Chapter 35). This information collection is published to obtain comments from the public.

DATES: Comments will be accepted until November 5, 2001.

ADDRESSES: Interested parties are invited to submit written comments to NCUA Clearance Officer or OMB Reviewer listed below:

Clearance Officer: Mr. C. Keith Morton (703) 518-6411,National Credit Union Administration, 1775 Duke Street,Alexandria, Virginia 22314-3428,Fax No. 703-518-6433,E-mail: ckmorton@ncua.gov.

OMB Reviewer: Alexander T. Hunt (202) 395-7860,Office of Management and Budget,Room 10226, New Executive Office Building,Washington, DC 20503.

FOR FURTHER INFORMATION CONTACT: Copies of the information collection requests, with applicable supporting documentation, may be obtained by calling the NCUA Clearance Officer, C. Keith Morton, (703) 518-6411.It is also available on the following website: www.NCUA.gov.

SUPPLEMENTARY INFORMATION: Proposal for the following collection of information:

OMB Number: 3133-0064.

Form Number: CLF-7000, 7001, 7002, 7003, & 7004.

Type of Review: Extension of a currently approved collection.

Title: Forms and Instructions for Central Liquidity Facility (CLF) Loans.

Description: Forms used by each borrower from the CLF.

Respondents: Credit Unions that borrow from the CLF.

Estimated No. of Respondents/Recordkeepers: 25.

Estimated Burden Hours Per Response: 1 hour.

Frequency of Response: Other. As the need for borrowing arises.

Estimated Total Annual Burden Hours: 25 hours.

Estimated Total Annual Cost: N/A.

By the National Credit Union Administration Board on August 28, 2001.
Becky Baker,
Secretary of the Board,

[FR Doc. 01-22192 Filed 9-4-01; 8:45 am]

BILLING CODE 7535-01-P